DEPARTMENT OF ENERGY

Office of Energy Efficiency and Renewable Energy

Wind and Water Power Technologies Office; Notice of a Meeting

AGENCY: Office of Energy Efficiency and Renewable Energy, Department of Energy.

ACTION: Notice of External Merit Review Meeting for the Atmosphere to Electrons Initiative.

SUMMARY: The Atmosphere to Electrons (A2e) Initiative within the U.S. Department of Energy's (DOE) Office of Energy Efficiency and Renewable Energy intends to hold an External Merit Review in Washington, DC, on March 31 & April 1, 2015. The External Review Panel will review the current program planning and provide suggestion on the formulation of A2e strategy, goals and implementation approaches. The review panel will also assess the initiative's potential impact on the wind power industry and identify additional research initiatives and resources that might be required in the future.

DATES: DOE will hold the External Merit Review on Tuesday, March 31, from 8:30 a.m.-5:00 p.m., and Wednesday, April 1, from 8:30 a.m.-12:00 p.m.

ADDRESSES: The public meeting will be held at the Washington Marriott Georgetown, 1221 22nd St NW., Washington, DC, 20037.

Following the meeting a summary will be compiled by DOE and posted for public comment. For those interested in providing additional public comment, the summary will be posted at [http://energy.gov/eere/wind/atmosphere-electrons].

You may submit comments by email to [samantha.rooney@nrel.gov]. Include “A2e External Merit Review” in the subject line of the message.

FOR FURTHER INFORMATION CONTACT: Michael Derby, EERE, U.S. Department of Energy, 1000 Independence Avenue SW., Washington, DC 20585. Telephone: (202) 586-6830. Email: michael.derby@ee.doe.gov.

SUPPLEMENTARY INFORMATION:

Background

Atmosphere to Electrons (A2e) is a multi-year Department of Energy (DOE) research initiative targeting significant reductions in the cost of wind energy through an improved understanding of the complex physics of the wind resource and interaction with wind farms. Better insight into the flow physics and resource forecasting has the potential to increase wind farm energy capture, reduce annual operational costs, and improve project financing. Achieving these objectives requires a diverse set of expertise and significant R&D resources. The Wind and Water Power Technologies Office (WWPTO) has selected subject matter experts from its national laboratories at NREL, SNL, and PNNL to assist in the integrated program planning for the initiative based on DOE investments in world class computational and testing facilities as well as core expertise in topics critical to the success of the A2e initiative available at these laboratories. These national laboratories are engaging the wider wind energy stakeholder community (e.g., industry, other national labs, other government agencies, universities, international partners) to develop a multi-year strategic plan that addresses wind plant performance under the A2e initiative.

Public Participation

The event is open to the public based upon space availability. After the meeting has concluded DOE will also accept public comments on the meeting summary as described above for purposes of developing the A2e portfolio, but will not respond individually to comments received.

Participants should limit information and comments to those based on personal experience, individual advice, information, or facts regarding this topic. It is not the object of this session to obtain any group position or consensus from the meeting participants. To most effectively use the limited time, please refrain from passing judgment on another participant's recommendations or advice, and instead, concentrate on your individual experiences.

Information on Services for Individuals With Disabilities

Individuals requiring special accommodations at the meeting, please contact Samantha Rooney no later than the close of business on March 17, 2015.

Issued in Washington, DC, on February 25, 2015.
Jose Zayas,
Director, Wind and Water Power Technologies Office, U.S. Department of Energy.

[FR Doc. 2015-04258 Filed 2-27-15; 8:45 am]

BILLING CODE 6450-01-P